DEPARTMENT OF JUSTICE

Notice of Lodging of Consent Decree Pursuant to the Comprehensive Environmental Response Compensation and Liability Act (“CERCLA”)

Consistent with Departmental policy, 28 CFR 50.7, 38 FR 19029, and 42 U.S.C. 9622(d), notice is hereby given that a proposed consent decree in United States v. Jane Doe, as Executrix of the Estate of Edmund Barbera, et al., 96 Civ. 8563 (BSJ), was lodged on February 20, 2002, with the United States District Court for the Southern District of New York. The Consent Decree addresses the hazardous waste contamination at the Port Refinery Superfund Site (the “Site”), located in the Village of Rye Brook, Westchester County, New York. the Consent Decree requires four generators of hazardous substances transported to the Site to pay to the United States a total of $415,500.

The Department of Justice will receive, for a period of thirty (30) days from the date of this publicaiton, comments relating to the proposed consent decree. Comments should be addressed to the Assistant Attorney General for the Evnrionment and Natural Resources Division, Department of Justice, Washington, DC 20530, and should refer to United States v. Jane Doe, as Executrix of the Estate of Edmund Barbera, et al., DOJ Ref. #90-11-3-1142A.

The proposed consent decree may be examined at the office of the United States Attorney for the Southern District of New York, 33 Whitehall Street, New York, New York (contact Assistant United States Attorney Kathy S. Marks); and the Region II Office of the Environmental Protection Agency, 290 Broadway, New York, New York, 10007-1866 (contact Assistant Regional Counsel Michael Mintzer). A copy of the proposed consent decree may be obtained by mail from the Consent Decree Library, P.O. Box 7611, Washington, DC 20044-7611. In requesting a copy please refer to the referenced case and enclose a check in the amount of $12.00 (25 cents per page reproduction costs) for the Consent Decree, payable to the Cnsent Decree Library.

Ronald G. Gluck,
Assistant Section Chief, Environmental Enforcement Section, Environment and Natural Resources Division.

[FR Doc. 02-7419 Filed 3-27-02; 8:45 am]

BILLING CODE 4410-15-M